DEPARTMENT OF THE INTERIOR

National Park Service

[NPS-NCR-NCRO-16194; PPNCNAMAN4/PPMPSPD1Z.YM00000]

Establishment of a New Recreation Fee Area at National Mall and Memorial Parks

AGENCY: National Park Service, Interior.

ACTION: Notice.

SUMMARY: The National Park Service plans to install parking meters and collect expanded amenity recreation fees at public parking areas in West Potomac Park and the National Mall. We are installing the parking meters to better manage public parking in West Potomac Park and on the National Mall, to allow more visitors access to park sites, and to encourage the use of public transit and other transportation alternatives. We will use the revenue to provide improved and more affordable visitor-transportation-related activities inside the park.

DATES: We will begin collecting fees on March 4, 2015.

FOR FURTHER INFORMATION CONTACT: Eliza Voigt, Park Planner, National Mall and Memorial Parks, 900 Ohio Drive SW., Washington, DC 20024; telephone (202) 245-4694; or by email at eliza_voigt@nps.gov.

SUPPLEMENTARY INFORMATION: This notice is to comply with Section 804 of the Federal Lands Recreation Enhancement Act of 2004 (Pub. L. 108-447). The act requires agencies to give the public 6 months advance notice of the establishment of a new recreation fee area.

The initial rates will be $2 per hour, Monday through Sunday, between the hours of 7:00 a.m. and 8:00 p.m., with a maximum parking limit of three hours. For buses, the rate will be $6 per hour, with the same days, hours of operation, and maximum time limits as for other vehicles. The bus rates are based on the determination that a bus occupies a parking space equal to three cars.

These fees were determined through a comparability study of similar sites in the area at Federal, state, and private recreation areas and will only be charged at the National Mall and Memorial Parks. In accordance with NPS public involvement guidelines, the park engaged numerous individuals, organizations, and local, state, and Federal government representatives while planning for the implementation of this fee.

Dated: August 26, 2014.
Lena McDowall,
Associate Director, Business Services.

[FR Doc. 2014-21033 Filed 9-3-14; 8:45 am]

BILLING CODE 4310-DL-P